DEPARTMENT OF JUSTICE

Notice of Lodging of Consent Decrees Under the Resource Conservation and Recovery Act (RCRA)

Pursuant to 28 CFR 50.7, notice is hereby given that on September 17, 2008, two proposed consent decrees in United States and Alabama Department of Environmental Management v. Brown Wood Preserving Co., Inc., and the James Graham Brown Foundation, Inc., Civil Action No. 2:08-CV-1720-RDP, were lodged with the United States District Court for the Northern District of Alabama.

These Consent Decrees will resolve claims asserted by the United States and the Alabama Department of Environmental Management (“ADEM”) against Brown Wood Preserving Co., Inc. (“Brown Wood”) and the James Graham Brown Foundation, Inc. (“JGBF”) for injunctive relief and civil penalties based on violations of the Resource Conservation and Recovery Act (“RCRA”), 42 U.S.C. 6928, that occurred at a wood treatment facility located in Northport, Alabama, formerly owned and operated by JGBF and presently owned and operated by Brown Wood. The complaint in this action alleges that Brown Wood operated a hazardous waste disposal facility without a permit or interim status, in violation of 42 U.S.C. 6925(a), 40 CFR parts 264 and 270, and failed to properly respond to hazardous waste leaks from storage tanks, in violation of 40 CFR 264.196, and applicable parallel administrative provisions under Alabama state law. The complaint further alleges that the facility will be transferred back to JGBF by the end of 2008, and that injunctive relief against both defendants is necessary in order to prevent continuing violations of RCRA.

The proposed Consent Decrees settle these claims by requiring Brown Wood to shut down all wood preserving and treatment operations at the Facility and to transfer the Facility back to JGBF, which will, in turn, clean up the hazardous waste contamination at the Facility pursuant to a RCRA corrective action agreement between ADEM and JGBF.

The Department of Justice will receive for a period of thirty (30) days from the date of this publication comments relating to the consent decrees. Comments should be addressed to the Assistant Attorney General, Environment and Natural Resources Division, and either e-mailed to pubcomment-ees.enrd@usdoj.gov or mailed to P.O. Box 7611, U.S. Department of Justice, Washington, DC 20044-7611, and should refer to United States v. Brown Wood Preserving Co., Inc., et al., D.J. Ref. #90-7-1-07281.

The consent decrees may be examined at the Office of the United States Attorney for the Northern District of Alabama, 1801 Fourth Ave. North, Birmingham, Alabama, and at U.S. EPA Region 4, Office of Regional Counsel, 61 Forsyth Street, Atlanta, GA 30303. During the public comment period, the consent decrees may also be examined on the following Department of Justice Web site: http://www.usdoj.gov/enrd/Consent_Decrees.html. Copies of the consent decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting copies of both consent decrees from the Consent Decree Library, please enclose a check in the amount of $48.25 (25 cents per page reproduction cost) payable to the U.S. Treasury.

Henry Friedman,
Assistant Section Chief, Environmental Enforcement Section, Environment and Natural Resources Division.

[FR Doc. E8-22256 Filed 9-23-08; 8:45 am]

BILLING CODE 4410-15-P